DEPARTMENT OF EDUCATION

Applications for New Awards; Personnel Development To Improve Services and Results for Children With Disabilities—Leadership Development Programs: Increasing the Capacity of Leaders To Improve Systems Serving Children With Disabilities

AGENCY: Office of Special Education and Rehabilitative Services, Department of Education.

ACTION: Notice; correction.

SUMMARY: On February 13, 2020, we published in the Federal Register a notice inviting applications (NIA) for new awards for fiscal year (FY) 2020 for Personnel Development to Improve Services and Results for Children with Disabilities—Leadership Development Programs: Increasing the Capacity of Leaders to Improve Systems Serving Children with Disabilities, Catalog of Federal Domestic Assistance (CFDA) number 84.325L. The NIA published with the incorrect estimated available funds, which should be $3,000,000 instead of $1,600,000. We are also correcting the estimated number of awards, which will update the estimated number of awards from 8 to 15.

DATES: This correction is applicable February 20, 2020.

FOR FURTHER INFORMATION CONTACT: Sarah Allen, U.S. Department of Education, 400 Maryland Avenue SW, Room 5160, Potomac Center Plaza, Washington, DC 20202-5076. Telephone: (202) 245-7875. Email: Sarah.Allen@ed.gov.

If you use a telecommunications device for the deaf (TDD) or a text telephone (TTY), call the Federal Relay Service (FRS), toll free, at 1-800-877-8339.

SUPPLEMENTARY INFORMATION: On February 13, 2020, we published in the Federal Register an NIA for new awards for FY 2020 for Personnel Development to Improve Services and Results for Children with Disabilities—Leadership Development Programs: Increasing the Capacity of Leaders to Improve Systems Serving Children with Disabilities (85 FR 8255). In the NIA, an error was made regarding the estimated available funds, which should be $3,000,000 instead of $1,600,000. In addition, we are correcting the estimated number of awards from 8 to 15.

Corrections

In FR Doc. 2020-02857 appearing on page 8260 in the Federal Register on February 13, 2020, the following corrections are made:

1. On page 8260, in section II. Award Information, in the left column, we are revising the dollar amount following the heading “Estimated Available Funds” to read as follows: $3,000,000.

2. On page 8260, in section II. Award Information, in the left column, we are revising the amount following the heading “Estimated Number of Awards” to read as follows: 15.

Program Authority: 20 U.S.C. 1463 and 1481.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at this site.

You may also access documents of the Department published in the Federal Register by using the article search feature at www.federalregister.gov. Specifically, through the advanced search feature at this site, you can limit your search to documents published by the Department.

Mark Schultz,
Delegated the authority to perform the functions and duties of the Assistant Secretary for the Office of Special Education and Rehabilitative Services.

[FR Doc. 2020-03450 Filed 2-18-20; 8:45 am]

BILLING CODE 4000-01-P